FEDERAL ACCOUNTING STANDARDS ADVISORY BOARD

Notice of Meetings on August 26-27, 2009

AGENCY: Federal Accounting Standards Advisory Board.

ACTION: Notice.

Board Action: Pursuant to 31 U.S.C. 3511(d), the Federal Advisory Committee Act (Pub. L. 92-463), as amended, and the FASAB Rules of Procedure, as amended in April, 2004, notice is hereby given that the Federal Accounting Standards Advisory Board (FASAB) will meet on Wednesday, August 26, from 9 a.m. to 4 p.m. in room 6N30, 441 G St., NW., Washington, DC. On Thursday, August 27, FASAB will host a joint meeting with the Governmental Accounting Standards Board (GASB) from 8:30 a.m. to 12 p.m. at the National Academy of Public Administration (NAPA), 900 7th Street, NW., Suite 600, Washington, DC. After the joint FASAB/GASB meeting, FASAB will reconvene for its afternoon session in room 6N30, 441 G St., NW., Washington, DC. Please note that the meeting room and location is different from the usual meeting room.

The purpose of the meeting is to discuss:

—Federal Entity,

—Measurement Attributes,

—Social Insurance,

—Asbestos Liabilities, and

—AICPA Omnibus.

A more detailed agenda can be obtained from the FASAB Web site http://www.fasab.gov.

Any interested person may attend the meeting as an observer. Board discussion and reviews are open to the public. GAO and NAPA Building security requires advance notice of your attendance. Please notify FASAB by August 24, 2009 of your planned attendance by calling 202-512-7350.

FOR FURTHER INFORMATION CONTACT: Wendy Payne, Executive Director, at (202) 512-7350.

Authority: Federal Advisory Committee Act, Public Law 92-463.

Dated: August 13, 2009.
Charles Jackson,
Federal Register Liaison Officer.

[FR Doc. E9-19803 Filed 8-18-09; 8:45 am]

BILLING CODE 1610-01-P